DEPARTMENT OF COMMERCE

Foreign-Trade Zones Board

Order No. 1554

Grant of Authority for Subzone Status, MPM Silicones, LLC (Silicone-Based Products and Intermediaries), Waterford, New York

Pursuant to its authority under the Foreign-Trade Zones Act, of June 18, 1934, as amended (19 U.S.C. 81a-81u), the Foreign-Trade Zones Board (the Board) adopts the following Order:

Whereas, the Foreign-Trade Zones Act provides for ”...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Capital District Regional Planning Commission, grantee of Foreign-Trade Zone 121, has made application to the Board for authority to establish a special-purpose subzone at the silicone-based products and intermediaries manufacturing and warehousing facility of MPM Silicones, LLC located in Waterford, New York (FTZ Docket 4-2007, filed 2-2-07);

Whereas, notice inviting public comment was given in the Federal Register (72 FR 6518, 2/12/07; 72 FR 16764, 4-5-07; 72 FR 24272, 5-2-07; 72 FR 53989, 9-21-07) and a public hearing was held on 4-18-07; and,

Whereas, the Board adopts the findings and recommendations of the examiner's report, and finds that the requirements of the FTZ Act and the Board's regulations would be satisfied, and that approval of the application would be in the public interest if subject to the restrictions and limitations listed below;

Now, therefore, the Board hereby grants authority for subzone status for activity related to silicone-based products and intermediaries manufacturing at the facility of MPM Silicones, LLC, located in Waterford, New York (Subzone 121C), as described in the application and Federal Register notice, and subject to the FTZ Act and the Board's regulations, including Section 400.28, and subject to the following restrictions and limitations:

1. Silicon metal subject to an antidumping or countervailing duty order that is admitted into the subzone in foreign status must ultimately be re-exported (regardless of whether it has been manufactured into a downstream product).

2. Admission of foreign-status silicon metal subject to an antidumping or countervailing duty order is limited to 10,000 metric tons per year.

3. Approval is for an initial period of five-years, subject to extension upon review.

Signed at Washington, DC, this 28th day of March 2008.

David M. Spooner,
Assistant Secretary of Commerce for Import Administration, Alternate Chairman, Foreign-Trade Zones Board.
Attest:
Andrew McGilvray,
Executive Secretary.

[FR Doc. E8-7473 Filed 4-8-08; 8:45 am]

BILLING CODE 3510-DS-S